CONSUMER PRODUCT SAFETY COMMISSION

16 CFR Ch. II

Semiannual Regulatory Agenda

AGENCY: U.S. Consumer Product Safety Commission.

ACTION: Semiannual Regulatory Agenda.

SUMMARY: In this document, the Commission publishes its semiannual regulatory flexibility agenda. In addition, this document includes an agenda of regulations that the Commission expects to develop or review during the next 12 months. This document meets the requirements of the Regulatory Flexibility Act and Executive Order 12866. Information in this agenda was accurate as of May 2024 when the Commission prepared this agenda.

DATES: The Commission welcomes comments on the agenda and on the individual agenda entries. Submit comments to the Office of the Secretary on or before September 16, 2024.

ADDRESSES: Caption comments on the regulatory agenda, “Regulatory Flexibility Agenda.” You can submit comments by email to: cpsc-os@cpsc.gov. You can also submit comments by mail or delivery to the Office of the Secretary, U.S. Consumer Product Safety Commission, 4330 East West Highway, Bethesda, MD 20814-4408.

FOR FURTHER INFORMATION CONTACT: For further information on the agenda, in general, contact Daniel Vice, Office of the General Counsel, U.S. Consumer Product Safety Commission, 4330 East West Highway, Bethesda, MD 20814-4408, dvice@cpsc.gov. For further information regarding a particular item on the agenda, contact the person listed in the column titled “Contact” for that item.

SUPPLEMENTARY INFORMATION: The Regulatory Flexibility Act (RFA; 5 U.S.C. 601-612) contains several provisions intended to reduce unnecessary and disproportionate regulatory requirements on small businesses, small governmental organizations, and other small entities. Section 602 of the RFA requires each agency to publish, twice a year, a regulatory flexibility agenda containing “a brief description of the subject area of any rule which the agency expects to propose or promulgate which is likely to have a significant economic impact on a substantial number of small entities.” 5 U.S.C. 602. The agency must provide a summary of the nature of the rule, the objectives and legal basis for the rule, and an approximate schedule for acting on each rule for which the agency has issued a notice of proposed rulemaking. Id. In addition, the regulatory flexibility agenda must contain the name and telephone number of an agency official who is knowledgeable about the listed items. Id. Agencies must attempt to provide notice of their agendas to small entities and solicit their comments either by directly notifying them, or by including the agenda in publications that small entities are likely to obtain. Id.

In addition, Executive Order 12866, Regulatory Planning and Review (Sep. 30, 1993), requires each agency to publish, twice a year, a regulatory agenda of regulations under development or review during the next year. 58 FR 51735 (Oct. 4, 1993). The Executive Order states that agencies may combine this agenda with the regulatory flexibility agenda required under the RFA. The agenda required by Executive Order 12866 must include all the regulations the agency expects to develop or review during the next 12 months, regardless of whether they may have a significant economic impact on a substantial number of small entities. This agenda also includes regulatory activities that the Commission listed in the fall 2023 agenda and completed before publishing this agenda.

The agenda contains a brief description and summary of each regulatory activity, including the objectives and legal basis for each; an approximate schedule of target dates, subject to revision, for developing or completing each activity; and the name and telephone number of an agency official who is knowledgeable about items in the agenda.

The internet is the primary means for disseminating the Unified Agenda. The complete Unified Agenda will be available online at: www.reginfo.gov, in a format that allows users to obtain information from the agenda database.

Because agencies must publish in the Federal Register the regulatory flexibility agenda required by the RFA (5 U.S.C. 602), the Commission's printed agenda entries include only:

(1) rules that are in the agency's regulatory flexibility agenda, in accordance with the RFA, because they are likely to have a significant economic impact on a substantial number of small entities; and

(2) rules that the agency has identified for periodic review under section 610 of the RFA.

The entries in the Commission's printed agenda are limited to fields that contain information that the RFA requires in an agenda. Additional information on these entries is available in the Unified Agenda published on the internet.

The agenda reflects the Commission's agenda as of May 2024. It contains an assessment of the likelihood that the specified event will occur during the next year; the precise dates for each rulemaking are uncertain. New information, changes of circumstances, or changes in the law, may alter anticipated timing. In addition, this agenda does not represent a final determination by the Commission or its staff regarding the need for, or the substance of, any rule or regulation.

Alberta E. Mills,
Secretary, Consumer Product Safety Commission.

Consumer Product Safety Commission—Proposed Rule Stage
Sequence No. | Title | Regulation Identifier No.
252 | Safety Standard for Bassinets and Cradles | 3041-AD97

Consumer Product Safety Commission—Final Rule Stage
Sequence No. | Title | Regulation Identifier No.
253 | Regulatory Options for Table Saws | 3041-AC31
254 | Portable Generators | 3041-AC36
255 | Safety Standard for Residential Gas Furnaces and Boilers | 3041-AD70
256 | Off-Highway Vehicles Debris Penetration Hazards | 3041-AD83
257 | Safety Standard for Infant Support Cushions (Previously Infant Pillow Ban) | 3041-AD89
258 | Infant Rockers and Infant/Toddler Rockers | 3041-AD98
259 | Safety Standard for Infant Nursing Pillows | 3041-AD99

Consumer Product Safety Commission—Long-Term Actions
Sequence No. | Title | Regulation Identifier No.
260 | Recreational Off-Road Vehicles | 3041-AC78

Consumer Product Safety Commission—Completed Actions
Sequence No. | Title | Regulation Identifier No.
261 | Exemption of Baloxavir Marboxil Tablets From Poison Prevention Packaging Requirements (Formerly Xofluza Petition) | 3041-AD84

CONSUMER PRODUCT SAFETY COMMISSION (CPSC)

Proposed Rule Stage

252. Safety Standard for Bassinets and Cradles [3041-AD97]

Legal Authority: 5 U.S.C. 553(e); 15 U.S.C. 2056a

Abstract: Section 104 of the Consumer Product Safety Improvement Act of 2008 (CPSIA) is the Danny Keysar Child Product Safety Notification Act. This Act requires the U.S. Consumer Product Safety Commission (CPSC or Commission) to: (1) examine and assess voluntary safety standards for certain infant or toddler products, and (2) promulgate mandatory consumer product safety standards that are substantially the same as the voluntary standards or more stringent than the voluntary standards if the Commission determines that more stringent standards would further reduce the risk of injury associated with these products. Section 104 also requires the Commission to periodically review and revise durable infant or toddler standards to ensure that such standards provide the highest level of safety for such products that is feasible. On February 28, 2024, staff sent a briefing package with a draft notice of proposed rulemaking (NPRM) to the Commission to update the Safety Standard for Bassinets and Cradles to address hazards associated with the use of bassinets on elevated and soft surfaces, ensure bassinets provide a flat, firm sleep surface, and to provide updated and accurate warnings. On March 20, 2024, the Commission voted to publish an NPRM, with amendments to the draft that staff submitted. The NPRM was published on April 16, 2024 and the comment period will close on June 17, 2024.

Timetable:

Action | Date | FR Cite
Staff Sends NPRM Briefing Package to Commission | 02/28/24 |
Commission Voted to Publish NPRM | 03/20/24 |
NPRM Published | 04/16/24 | 89 FR 27251
End of Comment Period | 06/17/24 |
Staff Reviews Comments | 07/00/24 |

Regulatory Flexibility Analysis Required: Yes.

Agency Contact: Celestine Kish, Project Manager, Directorate for Engineering Sciences, Consumer Product Safety Commission, National Product Testing and Evaluation Center, 5 Research Place, Rockville, MD 20850, Phone: 301 987-2547, Email: ckish@cpsc.gov.

RIN: 3041-AD97

CONSUMER PRODUCT SAFETY COMMISSION (CPSC)

Final Rule Stage

253. Regulatory Options for Table Saws [3041-AC31]

Legal Authority: 5 U.S.C. 553(e); 15 U.S.C. 2056; 15 U.S.C. 2058

Abstract: In 2006, the Commission granted a petition asking that the Commission issue a rule to prescribe performance standards for an active injury mitigation (AIM) system to reduce or prevent injuries from contacting the blade of a table saw. The Commission subsequently issued a notice of proposed rulemaking (NPRM) that would establish a performance standard requiring table saws to limit the depth of cut to 3.5 millimeters when a test probe, acting as a surrogate for a human body/finger, contacts the table saw's spinning blade. Staff has conducted several studies to provide information for the rulemaking. In November 2023, the Commission published a supplemental notice of proposed rulemaking (SNPRM) based on analysis of newly available incident data, evaluation of newly available products, and other market information that did not exist at the time of the 2017 NPRM. On February 28, 2024, The Commission provided an opportunity for interested parties to make oral presentations on the SNPR. The hybrid hearing was held in person at CPSC's headquarters and remotely via webinar. Staff is redacting data for release for additional public comment and will make those available for public comment in a forthcoming notice of availability (NOA). Staff is assigned to submit a final rule briefing package to the Commission in fiscal year 2024.

Timetable:

Action | Date | FR Cite
Commission Decision to Grant Petition | 07/11/06 |
ANPRM | 10/11/11 | 76 FR 62678
Notice of Extension of Time for Comments | 12/02/11 | 76 FR 75504
Comment Period End | 02/10/12 |
Notice to Open Comment Period | 02/15/12 | 77 FR 8751
Comment Period End | 03/16/12 |
Staff Sent NPRM Briefing Package to Commission | 01/17/17 |
Commission Decision | 04/27/17 |
NPRM | 05/12/17 | 82-FR 22190
NPRM Comment Period End | 07/26/17 |
Public Hearing | 08/09/17 | 82 FR 31035
Staff Sent 2016 NEISS Table Saw Type Study Status Report to Commission | 08/15/17 |
Staff Sent 2017 NEISS Table Saw Special Study to Commission | 11/13/18 |
Notice of Availability of 2017 NEISS Table Saw Special Study | 12/04/18 | 83FR62561
Staff Sends a Status Briefing Package on Table Saws to Commission | 08/28/19 |
Commission Decision | 09/10/19 |
Staff Sends SNPRM Briefing Package to Commission | 09/21/23 |
Commission Decision Approving SNPRM | 10/25/23 |
Oral comment presentations | 02/28/24 | 89 FR 8582
Staff Sends NOA for Data to Commission | 07/00/24 |

Regulatory Flexibility Analysis Required: Yes.

Agency Contact: Caroleene Paul, Project Manager, Directorate for Engineering Sciences, Consumer Product Safety Commission, National Product Testing and Evaluation Center, 5 Research Place, Rockville, MD 20850, Phone: 301 987-2225, Email: cpaul@cpsc.gov.

RIN: 3041-AC31

254. Portable Generators [3041-AC36]

Legal Authority: 15 U.S.C. 2056; 15 U.S.C. 2058

Abstract: In 2006, the Commission issued an advance notice of proposed rulemaking (ANPRM) under the Consumer Product Safety Act (CPSA) concerning portable generators. The ANPRM discussed regulatory options that could reduce deaths and injuries related to portable generators, particularly those involving carbon monoxide (CO) poisoning. In fiscal year 2006, staff awarded a contract to develop a prototype generator engine with reduced CO in the exhaust. Also, in fiscal year 2006, staff entered into an interagency agreement (IAG) with the National Institute of Standards and Technology (NIST) to conduct tests with a generator, in both off-the-shelf and prototype configurations, operating in the garage attached to NIST's test house. In fiscal year 2009, staff entered into a second IAG with NIST with the goal of developing CO emission performance requirements for a possible proposed regulation that would be based on health effects criteria. After additional staff and contractor work, the Commission issued a notice of proposed rulemaking (NPRM) in 2016, proposing a performance standard that would limit the CO emission rates from operating portable generators. In 2018, two voluntary standards, UL 2201 and PGMA G300, adopted different CO-mitigation requirements intended to address the CO poisoning hazard associated with portable generators. Staff developed a simulation and analysis plan to evaluate the effectiveness of those voluntary standards' requirements. In 2019, the Commission sought public comments on staff's plan. In August 2020, staff submitted to the Commission a draft notice of availability of the modified plan, based on staff's review and consideration of the comments, for evaluating the voluntary standards; the Commission published the notice of availability in August 2020. In February 2022, staff delivered a briefing package to the Commission with the results of the effectiveness analysis and information on the availability of compliant generators in the marketplace. Staff concluded that the CO hazard-mitigation requirements of one standard are more effective than the other, but conformance to either standard is low. Staff provided a supplemental NPRM (SNPRM) on portable generators to the Commission on March 8, 2023. The Commission published the SNPRM on April 20, 2023. Staff is redacting data for release for additional public comment and will make those available for comment in a forthcoming notice of availability (NOA). Staff is assessing the newly revised PGMA standard and a final rule briefing package is scheduled to be sent to the Commission in fiscal year 2024.

Timetable:

Action | Date | FR Cite
Staff Sent ANPRM to Commission | 07/06/06 |
Staff Sent Supplemental Material to Commission | 10/12/06 |
Commission Decision | 10/26/06 |
Staff Sent Draft ANPRM to Commission | 11/21/06 |
ANPRM | 12/12/06 | 71 FR 74472
ANPRM Comment Period End | 02/12/07 |
Staff Releases Research Report for Comment | 10/10/12 |
NPRM | 11/21/16 | 81 FR 83556
NPRM Comment Period Extended | 12/13/16 | 81 FR 89888
Public Hearing for Oral Comments | 03/08/17 | 82 FR 8907
NPRM Comment Period End | 04/24/17 |
Staff Sends Notice of Availability to the Commission | 06/26/19 |
Commission Decision | 07/02/19 |
Notice of Availability | 07/09/19 | 84 FR 32729
Staff Sends Notice of Availability to Commission | 08/12/20 |
Commission Decision | 08/19/20 |
Notice of Availability | 08/24/20 | 85 FR 52096
Staff Report on Effectiveness Evaluation of Voluntary Standards | 02/16/22 |
Staff Sends SNPRM Briefing Package to Commission | 03/08/23 |
Commission Decision | 04/05/23 |
SNPRM | 04/20/23 | 88 FR 24346
SNPRM Comment Period Ends | 06/20/23 |
NOA for Data to Commission | 09/00/24 |

Regulatory Flexibility Analysis Required: Yes.

Agency Contact: Janet L. Buyer, Project Manager, Directorate for Engineering Sciences, Consumer Product Safety Commission, National Product Testing and Evaluation Center, 5 Research Place, Rockville, MD 20850, Phone: 301 987-2293, Email: jbuyer@cpsc.gov.

RIN: 3041-AC36

255. Safety Standard for Residential Gas Furnaces and Boilers [3041-AD70]

Legal Authority: 15 U.S.C. 2056; 15 U.S.C. 2058

Abstract: Over several years, staff has conducted research and worked with voluntary standards organizations concerning the risk of injury and death associated with carbon monoxide (CO) production and leakage from residential gas furnaces and boilers. This proposed rule would establish a performance requirement, under which gas furnaces or boilers would be required to shut off or modulate when CO levels reach a specified level for a specified duration of time. In 2019, the Commission issued an advance notice of proposed rulemaking (ANPRM) to initiate rulemaking under the Consumer Product Safety Act and requested comments on the risk of injury and alternative approaches to address the risk. On September 24, 2021, the Commission voted to change the fiscal year 2022 deliverable from a notice of proposed rulemaking (NPRM) to Data Analysis and/or Technical Review (DA/TR). On February 9, 2022, staff provided a summary and status update in a public briefing to the Commission. On September 25, 2023, staff sent an NPRM briefing package to the Commission. On October 11, 2023, the Commission approved publication of the NPRM in the Federal Register. On February 21, 2024, the Commission provided an opportunity for interested parties to make oral presentations on the NPRM. The hybrid hearing was held in person at CPSC's headquarters and remotely via webinar. Staff is redacting data for release for additional public comment and will make those available for public comment in a forthcoming Notice of Availability (NOA). The Fiscal Year 2024 Operating Plan calls for staff to submit a Final Rule package to the Commission in fiscal year 2024.

Timetable:

Action | Date | FR Cite
Staff Sent ANPRM Briefing Package to Commission | 07/31/19 |
Commission Voted to Publish ANPRM | 08/07/19 |
ANPRM Published in FR | 08/19/19 | 84 FR 42847
ANPRM Comment Period End | 10/18/19 |
Staff Sent FR Notice to Commission to Reopen Comment Period | 10/23/19 |
Commission Voted to Reopen Comment Period | 11/01/19 |
Notice to Reopen Comment Period Published in FR | 11/07/19 | 84 FR 60010
ANPRM Comment Period End | 01/06/20 |
Commission Vote to Change Deliverable from NPRM to DA/TR | 09/24/21 |
Public Briefing to Commission | 02/09/22 |
Staff Sends NPRM Briefing Package to Commission | 09/25/23 |
Commission Decision to publish NPRM | 11/11/23 |
NPRM Published in FR | 11/25/23 | 88 FR 85862
NPRM Comment Period Extended | 12/11/23 |
NPRM Comment Period End | 01/25/24 |
Oral comment presentation | 02/21/24 | 89 FR 8583
Staff sends NOA Regarding Data to the Commission | 09/00/24 |

Regulatory Flexibility Analysis Required: Yes.

Agency Contact: Ronald Jordan, Project Manager, Directorate for Engineering Sciences, Consumer Product Safety Commission, National Product Testing and Evaluation Center, 5 Research Place, Rockville, MD 20850, Phone: 301 987-2219, Email: rjordan@cpsc.gov.

RIN: 3041-AD70

256. Off-Highway Vehicles Debris Penetration Hazards [3041-AD83]

Legal Authority: 15 U.S.C. 2056; 15 U.S.C. 2058

Abstract: On April 28, 2021, staff submitted an advance notice of proposed rulemaking (ANPRM) briefing package for Commission consideration concerning fire hazards associated with recreational off-highway vehicles (ROVs), utility terrain vehicles/utility task vehicles (UTVs), and all-terrain vehicles (ATVs), as well as debris-penetration hazards association with ROVs and UTVs. The Commission published the ANPRM on May 11, 2021. Staff evaluated comments on the ANPRM and conducted research. On May 18, 2022, staff submitted to the Commission a draft notice of proposed rulemaking (NPRM) for safety standards for ROVs/UTVs to prevent debris penetration injuries. The NPRM published on July 21,2022. The written comment period on the NPRM closed on September 19, 2022. Staff is redacting data for release for additional public comment and will make those available and open a comment period in a forthcoming Notice of Availability. Staff is directed to prepare a final rule briefing package for submission to the Commission in fiscal year 2024. As noted, the fire hazards associated with Off-Highway Vehicles were addressed in the ANPRM, along with the debris penetration hazards. However, fire hazards were not addressed in the NPRM. Staff continues to engage the standard development organizations (SDOs) for off highway vehicles to develop voluntary standard requirements to reduce fire hazards associated with ATVs, ROVs, and UTVs. The fire hazards associated with Off-Highway Vehicles will be addressed in a separate rulemaking. Staff is redacting data for release for additional public comment and will make those available for public comment in a forthcoming Notice of Availability (NOA). The Operating Plan calls for staff to submit a Final Rule package to the Commission in fiscal year 2024.

Timetable:

Action | Date | FR Cite
Staff sends ANPRM briefing package to Commission (for Fire and Debris Penetration Hazards) | 04/28/21 |
ANPRM (for Fire and Debris Penetration Hazards) | 05/11/21 | 86 FR 25817
Staff sends NPRM briefing package to Commission (for Debris Penetration Hazards only) | 05/18/22 |
NPRM (for Debris Penetration Hazards only) | 07/21/22 | 87 FR 43688
NPRM comment period ends (for Debris Penetration Hazards only) | 09/19/22 |
Staff sends NOA for Data with Comment Period to the Commission | 09/00/24 |

Regulatory Flexibility Analysis Required: Yes.

Agency Contact: Han S. Lim, Project Manager, Consumer Product Safety Commission, Directorate for Engineering Sciences, 4330 East West Highway, Bethesda, MD 20814-4408, Phone: 301 504-7538, Email: hlim@cpsc.gov.

RIN: 3041-AD83

257. Safety Standard for Infant Support Cushions (Previously Infant Pillow Ban) [3041-AD89]

Legal Authority: 5 U.S.C. 553(e); 15 U.S.C. 2056a

Abstract: Section 104(b) of the CPSIA requires the Commission to consult with representatives of consumer groups, juvenile product manufacturers, and independent child product engineers and experts, to assess the effectiveness of voluntary standards for durable infant or toddler products, and then to promulgate mandatory standards for these products. 15 U.S.C. 2056a(b)(1). The mandatory standard must be substantially the same as any voluntary standard, or may be more stringent than any voluntary standard, if the Commission determines that more stringent requirements would further reduce the risk of injury associated with the product. Id. Under this authority, the Commission directed staff to develop a proposed rule for Infant Support Cushions. Staff delivered an NPRM briefing package to the Commission on November 8, 2023. On November 29, 2023 the Commission voted to approve publication of the NPRM. The NPRM was published in the Federal Register on January 16, 2024, and the public comment period closed on March 18, 2024. Staff is redacting data for release for additional public comment and will make those available for public comment in a forthcoming Notice of Availability. Staff anticipates delivering a Final Rule package to the Commission in fiscal year 2024.

Timetable:

Action | Date | FR Cite
Staff sends proposed NPRM package to Commission | 11/08/23 |
Commission Decision Approving NPRM | 11/29/23 |
NPRM published | 01/16/24 | 89 FR 2530
NPRM Comment Period Closes | 03/18/24 |
Staff sends Notice of Availability for Data with Reopened Comment Period to the Commission | 07/00/24 |

Regulatory Flexibility Analysis Required: Yes.

Agency Contact: Ashley Johnson, Project Manager, Division of Pharmacology and Physiology Assessment, Consumer Product Safety Commission, National Product Testing and Evaluation Center, 5 Research Place, Rockville, MD 20850, Phone: 301 504-7872, Email: aajohnson@cpsc.gov.

RIN: 3041-AD89

258. Infant Rockers and Infant/Toddler Rockers [3041-AD98]

Legal Authority: 5 U.S.C. 553(e); 15 U.S.C. 2056a(b)

Abstract: Section 104(b) of the CPSIA requires the Commission to consult with representatives of consumer groups, juvenile product manufacturers, and independent child product engineers and experts, to assess the effectiveness of voluntary standards for durable infant or toddler products, and then to promulgate mandatory standards for these products. 15 U.S.C. 2056a(b)(1). The mandatory standard must be substantially the same as the voluntary standard, or may be more stringent than the voluntary standard, if the Commission determines that more stringent requirements would further reduce the risk of injury associated with the product. Id. Under this authority, the Commission directed staff to develop a proposed rule for Infant Rockers and Infant/Toddler Rockers. On September 13, 2024, staff sent an NPRM briefing package to the Commission. On October 11, 2023, the Commission voted to publish the NPRM. The comment period ended on December 26, 2023. Staff is preparing data for release for additional public comment and will make those available for public comment in a forthcoming notice of availability (NOA). Staff will review comments and anticipates sending a final rule briefing package to the Commission in fiscal year 2024.

Timetable:

Action | Date | FR Cite
Staff Sends NPRM Briefing Package to Commission | 09/13/23 |
Commission Decision Approving NPRM for publication | 10/11/23 |
NPRM published in Federal Register | 10/26/23 | 88 FR 73551
NPRM Comment Period Closes | 12/26/23 |
Staff Sends Notice of Availability for Data with Reopened Time Period to the Commission | 07/00/24 |

Regulatory Flexibility Analysis Required: Yes.

Agency Contact: Zachary Foster, Project Manager, Directorate for Engineering Sciences, Consumer Product Safety Commission, 5 Research Place, Rockville, MD 29850, Phone: 301 987-2034, Email: zfoster@cpsc.gov.

RIN: 3041-AD98

259. Safety Standard for Infant Nursing Pillows [3041-AD99]

Legal Authority: 5 U.S.C. 553(e); 15 U.S.C. 2056a

Abstract: Section 104(b) of the CPSIA requires the Commission to consult with representatives of consumer groups, juvenile product manufacturers, and independent child product engineers and experts, to assess the effectiveness of voluntary standards for durable infant or toddler products, and then to promulgate mandatory standards for these products. 15 U.S.C. 2056a(b)(1). The mandatory standard must be substantially the same as any voluntary standard, or may be more stringent than any voluntary standard, if the Commission determines that more stringent requirements would further reduce the risk of injury associated with the product. Id . Under this authority, the Commission directed staff to develop a proposed rule for Nursing Pillows. Staff delivered a notice of proposed rulemaking (NPRM) briefing package to the Commission on August 23, 2023. On September 8, 2023, the Commission voted to approve publication of the NPRM in the Federal Register. The NPRM was published in the Federal Register on September 26, 2023, and the public comment period closed on November 27, 2023. Staff is redacting data to release for additional public comment and will make those available and reopen the comment period in a forthcoming Notice of Availability (NOA). Staff anticipates delivering a Final Rule package to the Commission in fiscal year 2024.

Timetable:

Action | Date | FR Cite
Staff Sends NPRM Briefing Package to Commission | 08/23/23 |
Commission Decision | 09/08/23 |
NPRM Published | 09/26/23 | 88 FR 65865
NPRM Comment Period Closes | 11/27/23 |
Staff Sends Notice of Availability for Data with Comment Period to the Commission | 07/00/24 |

Regulatory Flexibility Analysis Required: Yes.

Agency Contact: Timothy P. Smith, Project Manager, Consumer Product Safety Commission, Division of Human Factors, Directorate for Engineering Sciences, Washington, DC 20207, Phone: 301 504-7691, Email: tsmith@cpsc.gov.

RIN: 3041-AD99

CONSUMER PRODUCT SAFETY COMMISSION (CPSC)

Long-Term Actions

260. Recreational Off-Road Vehicles [3041-AC78]

Legal Authority: 15 U.S.C. 2056; 15 U.S.C. 2058

Abstract: Staff conducted testing and evaluation programs to develop performance requirements addressing vehicle stability, vehicle handling, and occupant protection. In 2014, the Commission issued a notice of proposed rulemaking (NPRM) proposing standards addressing vehicle stability, vehicle handling, and occupant protection for recreational off-road vehicles (ROVs). Congress directed in fiscal year 2016, and reaffirmed in subsequent fiscal year appropriations, that none of the amounts made available by the Appropriations Bill may be used to finalize or implement the proposed Safety Standard for Recreational Off-Highway Vehicles until after the National Academy of Sciences completes a study to determine specific information, as set forth in the Appropriations Bill. Staff ceased work on a Final Rule briefing package and instead engaged the Recreational Off-Highway Vehicle Association (ROHVA) and Outdoor Power Equipment Institute (OPEI) in the development of voluntary standards for ROVs. Staff conducted dynamic and static tests on ROVs, shared test results with ROHVA and OPEI, and participated in the development of revised voluntary standards to address staff's concerns with vehicle stability, vehicle handling, and occupant protection. The voluntary standards for ROVs were revised and published in 2016 (ANSI/ROHVA 1-2016 and ANSI/OPEI B71.9-2016). Staff assessed the new voluntary standard requirements and prepared a termination of rulemaking briefing package that was submitted to the Commission on November 22, 2016. The Commission voted not to terminate the rulemaking associated with ROVs. In the Fiscal Year 2020 Operating Plan, the Commission directed staff to prepare a rulemaking termination briefing package. Staff submitted a briefing package to the Commission on September 16, 2020 that recommended termination of the rulemaking. On September 22, 2020, the Commission voted 2-2 on this matter. A majority was not reached and no action is being taken.

Timetable:

Action | Date | FR Cite
Staff Sends ANPRM Briefing Package to Commission | 10/07/09 |
Commission Decision | 10/21/09 |
ANPRM | 10/28/09 | 74 FR 55495
ANPRM Comment Period Extended | 12/22/09 | 74 FR 67987
Extended Comment Period End | 03/15/10 |
Staff Sends NPRM Briefing Package to Commission | 09/24/14 |
Staff Sends Supplemental Information on ROVs to Commission | 10/17/14 |
Commission Decision | 10/29/14 |
NPRM Published in Federal Register | 11/19/14 | 79 FR 68964
NPRM Comment Period Extended | 01/23/15 | 80 FR 3535
Extended Comment Period End | 04/08/15 |
Staff Sends Briefing Package Assessing Voluntary Standards to Commission | 11/22/16 |
Commission Decision Not to Terminate | 01/25/17 |
Staff Sends Briefing Package to Commission | 09/16/20 |
Commission Decision: Majority Not Reached, No Action Will be Taken | 09/22/20 |
Next Step Undetermined | To Be Determined

Regulatory Flexibility Analysis Required: Yes.

Agency Contact: Caroleene Paul, Project Manager, Directorate for Engineering Sciences, Consumer Product Safety Commission, National Product Testing and Evaluation Center, 5 Research Place, Rockville, MD 20850, Phone: 301 987-2225, Email: cpaul@cpsc.gov.

RIN: 3041-AC78

CONSUMER PRODUCT SAFETY COMMISSION (CPSC)

Completed Actions

261. Exemption of Baloxavir Marboxil Tablets From Poison Prevention Packaging Requirements (Formerly Xofluza Petition) [3041-AD84]

Legal Authority: 15 U.S.C. 1472; 15 U.S.C. 1474

Abstract: On March 30, 2020, Genentech, Inc. submitted a petition requesting exemption from the special packaging requirements of the Poison Prevention Packaging Act (PPPA) for the prescription drug XOFLUZA™ (Baloxavir marboxil). The petition was docketed, and staff sent a briefing package to the Commission on September 1, 2021, recommending that the Commission grant the petition and issue a notice of proposed rulemaking (NPRM). On September 8, 2021, the Commission voted to grant the petition and publish an NPRM. On September 16, 2021, the NPRM was published and invited interested parties to submit written comments on the NPRM. The comment period closed on November 30, 2021. Staff submitted a final rule package to the Commission on March 27, 2024, and the Commission voted to approve publication on April 2, 2024. The final rule was published on April 19, 2024 and the effective date is May 20, 2024.

Timetable:

Action | Date | FR Cite
Petition Docketed | 10/05/20 |
Staff Sent Briefing Package to Commission | 09/01/21 |
Commission Decision | 09/08/21 |
NPRM | 09/16/21 | 86 FR 51640
End of NPRM Comment Period | 11/30/21 |
Staff Submits Final Rule Package to Commission | 03/27/24 |
Commission Voted to Publish Final Rule | 04/02/24 |
Final Rule Published in Federal Register | 04/19/24 | 89 FR 28604

Regulatory Flexibility Analysis Required: Yes.

Agency Contact: Cheryl Scorpio, Project Manager, Directorate for Health Sciences, Consumer Product Safety Commission, National Product Testing and Evaluation Center, 5 Research Place, Rockville, MD 20850, Phone: 301 987-2572.

RIN: 3041-AD84

[FR Doc. 2024-16466 Filed 8-15-24; 8:45 am]

BILLING CODE 6355-01-P